DEPARTMENT OF DEFENSE

Department of the Army; Corps of Engineers

Intent To Prepare an Environmental Impact Statement for Sediment Dredging Activities at John Redmond Dam and Reservoir, KS

AGENCY: Department of the Army, U.S. Army Corps of Engineers, DoD.

ACTION: Notice of intent.

SUMMARY: The purpose of the Environmental Impact Statement (EIS) is to address alternatives and environmental impacts associated with proposed dredging (sediment removal and disposal) activities by the State of Kansas at John Redmond Dam and Reservoir, Kansas. The State of Kansas, acting through the Kansas Water Office (KWO), proposes to fund and perform removal of excessive accumulated sediment from John Redmond Reservoir for the purpose of at least partially restoring conservation pool storage capacity. The proposed action would restore water supply storage for water users as well as regain lost aquatic habitat to the benefit of recreational users and the lake ecosystem. Dredging activities are proposed by the State of Kansas in response to accumulation of excessive amounts of sediment at unanticipated in-lake settling locations and resulting adverse impacts to a critical water supply as well as an important recreational and biological resource.

ADDRESSES: Questions or comments concerning the proposed action should be addressed to Mr. Stephen L. Nolen, Chief, Planning and Environmental Division, Tulsa District, U.S. Army Corps of Engineers, CESWT-PE, 1645 S. 101st E. Ave., Tulsa, OK 74128-4629.

FOR FURTHER INFORMATION CONTACT: Mr. Stephen L. Nolen, (918) 669-7660, fax: (918) 669-7546, email: Stephen.L.Nolen@usace.army.mil.

SUPPLEMENTARY INFORMATION: The Tulsa District, U.S. Army Corps of Engineers manages John Redmond Dam and Reservoir, KS for the authorized purposes of flood control, water supply, water quality control, and recreation. John Redmond Dam is located on the Grand (Neosho) River at river mile 343.7, about 3 miles northwest of Burlington in Coffey County, KS. The project was completed for full flood control operation in September 1964 with all major construction completed in December 1965. The KWO is under contract with the U.S. Army Corps of Engineers for all water supply storage in John Redmond Reservoir and provides water for the Cottonwood and Neosho River Basins Water Assurance District Number 3 (CNRWAD) and the nearby Wolf Creek Generating Station, a nuclear power facility. The CNRWAD includes 13 cities, one wholesale water supplier, and five industrial water users. As such, the reservoir serves as a critical source of municipal and industrial water for the region. The reservoir also provides scarce and important recreational opportunities for the region in the form of fishing, hunting, boating, swimming, and related water-based activities. Water supply and recreational purposes are severely impacted owing to loss of lake capacity resulting from excessive sedimentation and deposition in unanticipated areas since reservoir construction. In addition to a potential increase in conservation pool elevation currently being considered in ongoing storage reallocation studies, dredging provides a means of restoring storage or at least slowing the rate of loss storage capacity at John Redmond Reservoir. Proposed dredging would be fully funded and performed by the State of Kansas. In addition to considerations under the National Environmental Policy Act (NEPA), the proposed action would also likely require review and approval of alterations/modifications of Corps of Engineers projects under 33 U.S.C. 408.

In addition to a no action alternative, reasonable alternatives to be considered could include varying combinations of the quantities, locations, and phasing of sediment removal from the reservoir. Alternatives could also consider varying locations, design, and methods of disposal for removed sediments, including potential beneficial use of dredged materials.

Issues to be addressed in the EIS include but are not limited to: (1) Geology and soils, including sediment composition; (2) hydrology and water resources to include both surface and groundwater; (3) air quality; (4) aesthetics; (5) biological resources to include wildlife, fisheries, vegetation, threatened and endangered species; (6) prime and unique farmlands; (7) socioeconomic issues to include economic and population considerations, land use, recreation, transportation; (8) cultural resources; (9) issues related to potentially contaminated sediments and their disposal; (10) safety; (11) impacts to wetlands and permitting requirements under Section 404 of the Clean Water Act; and (11) cumulative impacts associated with past, current, and reasonably foreseeable future actions at John Redmond Reservoir.

A public scoping meeting for the proposed action is currently planned for 9:30 a.m., Tuesday, February 5, 2013 at the Coffey County Courthouse, 110 S. 6th Street, Burlington, KS 66839. News releases and notices informing the public and local, state, and Federal agencies of the proposed action and date of this and any additional public scoping meeting(s) will be published in local newspapers. Comments received as a result of this notice, news releases, and the public scoping meeting will be used to assist the Tulsa District Corps of Engineers in identifying potential impacts to the quality of the human or natural environment. Affected Federal, state, or local agencies, affected Indian tribes, and other interested private organizations and parties are encouraged to participate in the scoping process by forwarding written comments to (see ADDRESSES) or attending the scoping meeting. Scoping comments must be postmarked by March 12, 2013.

The draft EIS will be available for public review and comment. While the specific date for release of the draft EIS has yet to be determined, all interested agencies, tribes, organizations and parties expressing an interest in this action will be placed on a mailing list for receipt of the draft EIS. In order to be considered, any comments and suggestions should be forwarded to (see ADDRESSES) in accordance with dates specified upon release of the draft EIS.

Dated: January 17, 2013.
Michael J. Teague,
Colonel, U.S. Army, District Commander.

[FR Doc. 2013-01723 Filed 1-28-13; 8:45 am]

BILLING CODE 3720-58-P